FEDERAL MARITIME COMMISSION

Notice of Agreement Filed

The Commission hereby gives notice of the filing of the following agreement under the Shipping Act of 1984. Interested parties may submit comments on the agreement to the Secretary, Federal Maritime Commission, Washington, DC 20573, within twelve days of the date this notice appears in the Federal Register. A copy of the agreement is available through the Commission's Web site (www.fmc.gov) or by contacting the Office of Agreements at (202) 523-5793 or tradeanalysis@fmc.gov.

Agreement No.: 201236.

Title: MACS-CSAL Shipping Agreement.

Parties: MACS Maritime Carrier Shipping Pte. Ltd. and CSAL Canada-States-Africa Line Inc.

Filing Party: Steven B. Chameides; Foley & Lardner LLP; 3000 K Street NW.; Washington, DC 20007.

Synopsis: The agreement authorizes the parties to charter space from one another in the trade between the U.S. East and Gulf Coast on the one hand, and certain countries in Africa on the other hand.

Dated: November 9, 2017.
By Order of the Federal Maritime Commission.
JoAnne D. O'Bryant,
Program Analyst.

[FR Doc. 2017-24708 Filed 11-14-17; 8:45 am]

BILLING CODE 6731-AA-P